DEPARTMENT OF TRANSPORTATION

Federal Aviation Administration

14 CFR Part 39

[Docket No. FAA-2015-0830; Directorate Identifier 2015-NM-024-AD; Amendment 39-18141; AD 2015-08-05]

RIN 2120-AA64

Airworthiness Directives; Dassault Aviation Airplanes

AGENCY: Federal Aviation Administration (FAA), Department of Transportation (DOT).

ACTION: Final rule; request for comments.

SUMMARY: We are superseding Airworthiness Directive (AD) 2013-26-05 for all Dassault Aviation Model FAN JET FALCON, FAN JET FALCON SERIES C, D, E, F, and G airplanes; Model MYSTERE-FALCON 200 airplanes; and Model MYSTERE-FALCON 20-C5, 20-D5, 20-E5, and 20-F5 airplanes. AD 2013-26-05 required repetitive weighing of fire extinguisher bottles having a certain part number, and eventual replacement of those bottles to terminate the repetitive weighing. This new AD continues to require repetitive weighing of fire extinguisher bottles having a certain part number, and eventual replacement of those bottles to terminate the repetitive weighing. This AD was prompted by our determination that certain text in the method of compliance language specified in AD 2013-26-05 incorrectly refers to Airbus, instead of “Dassault Aviation.” We are issuing this AD to detect and correct a dormant failure in the fire suppression system, which could result in the inability to put out a fire in an engine, auxiliary power unit (APU), or rear compartment.

DATES: This AD becomes effective May 8, 2015.

The Director of the Federal Register approved the incorporation by reference of certain other publications listed in this AD as of October 20, 2014 (79 FR 54897, dated September 15, 2014).

We must receive comments on this AD by June 8, 2015.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Dassault Falcon Jet, P.O. Box 2000, South Hackensack, NJ 07606; telephone 201-440-6700; Internet http://www.dassaultfalcon.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0830; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

On August 29, 2014, we issued AD 2013-26-05, Amendment 39-17714 (79 FR 54897, September 15, 2014), which applied to all Dassault Aviation Model FAN JET FALCON, FAN JET FALCON SERIES C, D, E, F, and G airplanes; Model MYSTERE-FALCON 200 airplanes; and Model MYSTERE-FALCON 20-C5, 20-D5, 20-E5, and 20-F5 airplanes. AD 2013-26-05 was prompted by reports of a manufacturing defect in the charge indicator on fire extinguisher bottles. AD 2013-26-05 required repetitive weighing of fire extinguisher bottles having a certain part number, and eventual replacement of those bottles to terminate the repetitive weighing. We issued AD 2013-26-05 to detect and correct a dormant failure in the fire suppression system, which could result in the inability to put out a fire in an engine, APU, or rear compartment.

AD 2013-26-05, Amendment 39-17714 (79 FR 54897, September 15, 2014), corresponds to Mandatory Continuing Airworthiness Information (MCAI) European Aviation Safety Agency (EASA) AD 2012-0189, dated September 24, 2012. You may examine the MCAI on the Internet at http://www.regulations.gov by searching for and locating Docket No. FAA-2015-0830.

Since we issued AD 2013-26-05, Amendment 39-17714 (79 FR 54897, September 15, 2014), we have determined that there is an error in the manufacturer's name in the method of compliance language in certain text in the “Explanation of Change Made to This AD” section and in certain paragraphs of the regulatory text of AD 2013-26-05. AD 2013-26-05 refers to Airbus's EASA Design Organization Approval (DOA), instead of Dassault Aviation's EASA DOA. In order to refer to the appropriate EASA DOA, this AD replaces “Airbus's” with “Dassault Aviation's” in paragraphs (h)(2), (h)(2)(i), (h)(2)(ii), (h)(2)(iii), (h)(2)(iv), (i), (i)(1), (i)(2), (i)(3), (i)(4), (j)(1), (j)(2), (j)(3), (j)(4), and (l)(2) of this AD. The “Explanation of Change Made to This AD” section of AD 2013-26-05 is not restated in this AD.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

FAA's Determination of the Effective Date

We are superseding AD 2013-26-05, Amendment 39-17714 (79 FR 54897, September 15, 2014), to correct certain erroneous manufacturer information in the “Explanation of Changes to This AD” section and in certain paragraphs of the regulatory text. No other changes have been made to AD 2013-26-05. Therefore, we determined that notice and opportunity for prior public comment are unnecessary.

Comments Invited

This AD is a final rule that involves requirements affecting flight safety, and we did not precede it by notice and opportunity for public comment. We invite you to send any written relevant data, views, or arguments about this AD. Send your comments to an address listed under the ADDRESSES section. Include “Docket No. FAA-2015-0830; Directorate Identifier 2015-NM-024-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 185 airplanes of U.S. registry.

The actions required by AD 2013-26-05, Amendment 39-17714 (79 FR 54897, September 15, 2014), and retained in this AD take about 4 work-hours per product, at an average labor rate of $85 per work-hour. Required parts cost about $6,400 per product. Based on these figures, the estimated cost of the actions that were required by AD 2013-26-05 is $1,246,900, or $6,740 per product.

The new requirements of this AD add no additional economic burden.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2013-26-05, Amendment 39-17714 (79 FR 54897, September 15, 2014), and adding the following new AD:

2015-08-05 Dassault Aviation: Amendment 39-18141. Docket No. FAA-2015-0830; Directorate Identifier 2015-NM-024-AD.

(a) Effective Date

This AD becomes effective May 8, 2015.

(b) Affected ADs

This AD replaces AD 2013-26-05, Amendment 39-17714 (79 FR 54897, September 15, 2014).

(c) Applicability

This AD applies to Dassault Aviation Model FAN JET FALCON, FAN JET FALCON SERIES C, D, E, F, and G airplanes; Model MYSTERE-FALCON 200 airplanes; and Model MYSTERE-FALCON 20-C5, 20-D5, 20-E5, and 20-F5 airplanes, certificated in any category; all serial numbers.

(d) Subject

Air Transport Association (ATA) of America Code 26, Fire Protection.

(e) Reason

This AD was prompted by reports of a manufacturing defect in the charge indicator on fire extinguisher bottles and also our determination that certain text in the method of compliance language specified in AD 2013-26-05, Amendment 39-17714 (79 FR 54897, September 15, 2014), incorrectly refers to “Airbus” instead of “Dassault Aviation.” We are issuing this AD to detect and correct a dormant failure in the fire suppression system, which could result in the inability to put out a fire in an engine, auxiliary power unit (APU), or rear compartment.

(f) Compliance

Comply with this AD within the compliance times specified, unless already done.

(g) Retained Definitions, With No Changes

This paragraph restates the requirements of paragraph (g) of AD 2013-26-05, Amendment 39-17714 (79 FR 54897, September 15, 2014), with no changes. For the purposes of this AD, the following definitions apply.

(1) An affected fire extinguisher bottle is any fire extinguisher bottle having a part number included in table 1 to the introductory text of paragraph (h) of this AD and having a manufacturing batch number 168 through 200 inclusive on the data plate of the charge indicator.

(2) A serviceable fire extinguisher bottle is any fire extinguisher bottle having a manufacturing batch number lower than 168 or higher than 200 on the data plate of the charge indicator.

(h) Retained Determining Charge Indicator Batch Number, With Revised Method of Compliance Language

This paragraph restates the requirements of paragraph (h) of AD 2013-26-05, Amendment 39-17714 (79 FR 54897, September 15, 2014), with revised method of compliance language in paragraphs (h)(2), (h)(2)(i), (h)(2)(ii), (h)(2)(iii) and (h)(2)(iv) of this AD. Within 30 days or 100 flight hours after October 20, 2014 (the effective date of AD 2013-26-05), whichever occurs first: Determine the manufacturing batch number for the charge indicator installed on each engine and APU fire extinguisher bottle having a part number included in table 1 to the introductory text of paragraph (h) of this AD, in accordance with the Accomplishment Instructions of Dassault Service Bulletin F20-785, also referred to as 785, dated June 11, 2012 (for Model FAN JET FALCON, FAN JET FALCON SERIES C, D, E, F, and G airplanes; and Model MYSTERE-FALCON 20-C5, 20-D5, 20-E5, and 20-F5 airplanes); or Dassault Service Bulletin F200-131, also referred to as 131, dated June 11, 2012 (for Model MYSTERE-FALCON 200 airplanes).

Table 1 to the Introductory Text of Paragraph (h) of This AD—Part Numbers of Affected Fire Extinguisher Bottles
Type of bottle— | Part No.—
Engine Fire Extinguisher Bottle | 111-1555-324-12A
Engine Fire Extinguisher Bottle | 811456
Engine Fire Extinguisher Bottle | 111-355-32142A
APU Fire Extinguisher Bottle | 111-011-324-12A
APU Fire Extinguisher Bottle | 811475

(1) For fire extinguisher bottles with part numbers that are not included in table 1 to the introductory text of paragraph (h) of this AD, no further action is required by paragraph (h) of this AD.

(2) For any affected charge indicator, as identified in paragraph (g)(1) of this AD: Before further flight, weigh each affected fire extinguisher bottle, in accordance with a method approved by the Manager, International Branch, ANM-116, Transport Airplane Directorate, FAA; or the European Aviation Safety Agency (EASA); or Dassault Aviation's EASA Design Organization Approval (DOA). Weigh the fire extinguishers thereafter at intervals not to exceed 12 months until the replacement specified in paragraph (h)(2)(i), (h)(2)(ii), (h)(2)(iii), (h)(2)(iv), or (j) of this AD is accomplished. If it is determined that the fire extinguisher weighs less than the lowest weight limit indicated on the fire extinguisher's data plate, before further flight, replace any affected fire extinguisher bottle and charge indicator cartridge with a serviceable part, in accordance with the applicable method specified in paragraph (h)(2)(i), (h)(2)(ii), (h)(2)(iii), or (h)(2)(iv) of this AD.

Note 1 to paragraph (h)(2) of this AD: The instructions specified in Dassault Maintenance Procedure, “Weighing of Engine Freon Fire Extinguishers,” (page 601, “Inspection/Check”) of Subject 26-20-2, “Extinguishing System—Description and Operation, of Chapter 26, “Fire Protection,” in Book 2 of the Dassault Falcon 20 Maintenance Manual, Phase 50, dated October 2011 (for Model FAN JET FALCON, FAN JET FALCON SERIES C, D, E, F, and G airplanes; and Model MYSTERE-FALCON 20-C5, 20-D5, 20-E5, and 20-F5 airplanes); or Procedure 2, “Engine and Rear Compartment Extinguisher (14W1-14W2): Weighing” of Falcon 200 Maintenance Requirement Card 171.0, Revised December 2011, of Chapter 26, “Fire Protection,” in Book 1, “Work Cards,” of the Dassault Falcon 200 Maintenance Manual, Revision 30, dated December 2011 (for Model MYSTERE-FALCON 200 airplanes); provide additional guidance for weighing affected fire extinguisher bottles. This service information is not incorporated by reference in this AD.

(i) For Model FAN JET FALCON, FAN JET FALCON SERIES C, D, E, F, and G airplanes; and Model MYSTERE-FALCON 20-C5, 20-D5, 20-E5, and 20-F5 airplanes: Replace the charge indicator cartridge with a serviceable part, in accordance with a method approved by the Manager, International Branch, ANM-116, Transport Airplane Directorate, FAA; or EASA; or Dassault Aviation's EASA DOA.

Note 2 to paragraphs (h)(2)(i), (i), (i)(1), and (j)(1) of this AD: The instructions specified in Dassault Maintenance Procedure, “Removal of Pyrotechnical Cartridge for Check/Replacement” (pages 401-403, “Removal/Installation”), of Subject 26-20-2 “Extinguishing System—Description and Operation,” of Chapter 26, “Fire Protection,” in Book 2 of the Dassault Falcon 20 Maintenance Manual, Phase 50, dated October 2011, are a source of guidance for the actions specified in paragraphs (h)(2)(i), (i), (i)(1), and (j)(1) of this AD. This service information is not incorporated by reference in this AD.

(ii) For Model FAN JET FALCON, FAN JET FALCON SERIES C, D, E, F, and G airplanes; and Model MYSTERE-FALCON 20-C5, 20-D5, 20-E5, and 20-F5 airplanes: Replace the fire extinguisher bottle with a serviceable part, in accordance with a method approved by the Manager, International Branch, ANM-116, Transport Airplane Directorate, FAA; or the EASA; or Dassault Aviation's EASA DOA.

(iii) For Model MYSTERE-FALCON 200 airplanes: Replace the charge indicator cartridge with a serviceable part, in accordance with a method approved by the Manager, International Branch, ANM-116, Transport Airplane Directorate, FAA; or the EASA; or Dassault Aviation's EASA DOA.

Note 3 to paragraphs (h)(2)(iii), (i), (i)(3), and (j)(3) of this AD: Procedure 3, “Engine and Rear Compartment Extinguisher (14W1-14W2): Check/Replacement of Percussion Cartridge,” of Falcon 200 Maintenance Requirement Card 171.0, Revised December 2011, of Chapter 26, “Fire Protection”, in Book 1, “Work Cards,” of the Dassault Falcon 200 Maintenance Manual, Revision 30, dated December 2011, is a source of guidance for paragraphs (h)(2)(iii), (i), (i)(3), and (j)(3) of this AD. This service information is not incorporated by reference in this AD.

(iv) For Model MYSTERE-FALCON 200 airplanes: Replace the fire extinguisher bottle with a serviceable part, in accordance with a method approved by the Manager, International Branch, ANM-116, Transport Airplane Directorate, FAA; or the EASA; or Dassault Aviation's EASA DOA.

Note 4 to paragraphs (h)(2)(iv), (i)(4), and (j)(4) of this AD: Procedure 1, “Removal/Installation,” of Falcon 200 Maintenance Requirement Card 171.0, Revised December 2011, of Chapter 26, “Fire Protection”, in Book 1, “Work Cards,” of the Dassault Falcon 200 Maintenance Manual, Revision 30, dated December 2011, is a source of guidance for replacing the fire extinguisher bottle. This service information is not incorporated by reference in this AD.

(i) Retained Repetitive Inspections To Determine if Charge Indicator Cartridge Was Fired, With Revised Method of Compliance Language

This paragraph restates the requirements of paragraph (i) of AD 2013-26-05, Amendment 39-17714 (79 FR 54897, September 15, 2014), with revised method of compliance language in paragraphs (i), (i)(1), (i)(2), (i)(3) and (i)(4) of this AD. Within 6 months after October 20, 2014 (the effective date of AD 2013-26-05): Do an inspection to determine if the charge indicator cartridge installed on each engine and APU fire extinguisher bottle, as identified in table 1 to the introductory text of paragraph (h) of this AD, was fired, in accordance with a method approved by the Manager, International Branch, ANM-116, Transport Airplane Directorate, FAA; or the EASA; or Dassault Aviation's EASA DOA. Repeat the inspection thereafter at intervals not to exceed 6 months until the replacement specified in paragraph (i)(1), (i)(2), (i)(3), (i)(4), or (j) of this AD is accomplished. If it is determined that any charge indicator cartridge was fired, before further flight, replace the affected fire extinguisher bottle and charge indicator cartridge with a serviceable part, in accordance with a method approved by the Manager, International Branch, ANM-116, Transport Airplane Directorate, FAA; or the EASA; or Dassault Aviation's EASA DOA.

(1) For Model FAN JET FALCON, FAN JET FALCON SERIES C, D, E, F, and G airplanes; and Model MYSTERE-FALCON 20-C5, 2-D5, 20-E5, and 20-F5 airplanes: Replace the charge indicator cartridge with a serviceable part, in accordance with a method approved by the Manager, International Branch, ANM-116, Transport Airplane Directorate, FAA; or the EASA; or Dassault Aviation's EASA DOA.

(2) For Model FAN JET FALCON, FAN JET FALCON SERIES C, D, E, F, and G airplanes; and Model MYSTERE-FALCON 20-C5, 20-D5, 20-E5, and 20-F5 airplanes: Replace the fire extinguisher bottle with a serviceable part, in accordance with a method approved by the Manager, International Branch, ANM-116, Transport Airplane Directorate, FAA; or the EASA; or Dassault Aviation's EASA DOA.

(3) For Model MYSTERE-FALCON 200 airplanes: Replace the charge indicator cartridge with a serviceable part, in accordance with a method approved by the Manager, International Branch, ANM-116, Transport Airplane Directorate, FAA; or the EASA; or Dassault Aviation's EASA DOA.

(4) For Model MYSTERE-FALCON 200 airplanes: Replace the fire extinguisher bottle with a serviceable part, in accordance with a method approved by the Manager, International Branch, ANM-116, Transport Airplane Directorate, FAA; or the EASA; or Dassault Aviation's EASA DOA.

(j) Retained Replacement of Fire Extinguisher Bottle and Charge Indicator Cartridge, With Revised Method of Compliance Language

This paragraph restates the requirements of paragraph (j) of AD 2013-26-05, Amendment 39-17714 (79 FR 54897, September 15, 2014), with revised method of compliance language specified in paragraphs (j)(1), (j)(2), (j)(3), and (j)(4) of this AD. Unless previously accomplished as specified in paragraph (h)(2)(i), (h)(2)(ii), (h)(2)(iii), (h)(2)(iv), (i)(1), (i)(2), (i)(3), or (i)(4) of this AD: Within 60 months after October 20, 2014 (the effective date of AD 2013-26-05), replace any affected fire extinguisher bottle and charge indicator cartridge, as specified in paragraph (g)(1) of this AD, with a serviceable part, in accordance with the method specified in paragraph (j)(1), (j)(2), (j)(3), or (j)(4) of this AD, as applicable. Replacement of any affected fire extinguisher bottle and charge indicator cartridge with a serviceable part terminates the repetitive actions specified in paragraphs (h) and (i) of this AD.

(1) For Model FAN JET FALCON, FAN JET FALCON SERIES C, D, E, F, and G airplanes; and Model MYSTERE-FALCON 20-C5, 20-D5, 20-E5, and 20-F5 airplanes: Replace the charge indicator cartridge with a serviceable part, in accordance with a method approved by the Manager, International Branch, ANM-116, Transport Airplane Directorate, FAA; or the EASA; or Dassault Aviation's EASA DOA.

(2) For Model FAN JET FALCON, FAN JET FALCON SERIES C, D, E, F, and G airplanes; and Model MYSTERE-FALCON 20-C5, 20-D5, 20-E5, and 20-F5 airplanes: Replace the fire extinguisher bottle with a serviceable part, in accordance with a method approved by the Manager, International Branch, ANM-116, Transport Airplane Directorate, FAA; or the EASA; or Dassault Aviation's EASA DOA.

(3) For Model MYSTERE-FALCON 200 airplanes: Replace the charge indicator cartridge with a serviceable part, in accordance with a method approved by the Manager, International Branch, ANM-116, Transport Airplane Directorate, FAA; or the EASA; or Dassault Aviation's EASA DOA.

(4) For Model MYSTERE-FALCON 200 airplanes: Replace the fire extinguisher bottle with a serviceable part, in accordance with a method approved by the Manager, International Branch, ANM-116, Transport Airplane Directorate, FAA; or the EASA; or Dassault Aviation's EASA DOA.

(k) Retained Parts Installation Prohibition, With No Changes

This paragraph restates the requirements of paragraph (k) of AD 2013-26-05, Amendment 39-17714 (79 FR 54897, September 15, 2014), with no changes. As of October 20, 2014 (the effective date of AD 2013-26-05), no person may install, on any airplane, a fire extinguisher bottle having a part number included in table 1 to the introductory text of paragraph (h) of this AD, fitted with a charge indicator having a manufacturing batch number on the data plate of 168 through 200 inclusive.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the EASA; or Dassault Aviation's EASA DOA. If approved by the DOA, the approval must include the DOA-authorized signature.

(m) Related Information

Refer to Mandatory Continuing Airworthiness Information (MCAI) EASA Airworthiness Directive 2012-0189, dated September 24, 2012, for related information. This MCAI may be found in the AD docket on the Internet at http://www.regulations.gov by searching for and locating Docket No. FAA-2015-0830.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on October 20, 2014, (79 FR 54897, September 15, 2014).

(i) Dassault Service Bulletin F20-785, also referred to as 785, dated June 11, 2012.

(ii) Dassault Service Bulletin F200-131, also referred to as 131, dated June 11, 2012.

(4) For service information identified in this AD, contact Dassault Falcon Jet, P.O. Box 2000, South Hackensack, NJ 07606; telephone 201-440-6700; Internet http://www.dassaultfalcon.com.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on April 9, 2015.
Jeffrey E. Duven,
Manager, Transport Airplane Directorate, Aircraft Certification Service.

[FR Doc. 2015-09290 Filed 4-22-15; 8:45 am]

BILLING CODE 4910-13-P